DEPARTMENT OF TRANSPORTATION

Federal Aviation Administration

14 CFR Part 39

[Docket No. 2002-NM-198-AD; Amendment 39-13600; AD 2004-09-11]

RIN 2120-AA64

Airworthiness Directives; Boeing Model 767-200, -300, and -300F Series Airplanes

AGENCY: Federal Aviation Administration, DOT.

ACTION: Final rule.

SUMMARY: This amendment adopts a new airworthiness directive (AD), applicable to certain Boeing Model 767-200, -300, and -300F series airplanes, that requires performing, for both main landing gear (MLG), gap measurements of the upper and lower joint gaps; an ultrasonic inspection of the outer cylinder of the MLG for cracks between the downlock fitting attach lugs; and follow-on and corrective actions if necessary. This action is necessary to detect and correct cracks in the outer cylinder of the MLG, which could result in collapsed MLG and consequent reduced controllability of the airplane during takeoff and landing. This action is intended to address the identified unsafe condition.

DATES: Effective June 4, 2004.

The incorporation by reference of a certain publication listed in the regulations is approved by the Director of the Federal Register as of June 4, 2004.

ADDRESSES: The service information referenced in this AD may be obtained from Boeing Commercial Airplanes, P.O. Box 3707, Seattle, Washington 98124-2207. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Suzanne Masterson, Aerospace Engineer, Airframe Branch, ANM-120S, FAA, Seattle Aircraft Certification Office, 1601 Lind Avenue, SW., Renton, Washington 98055-4056; telephone (425) 917-6441; fax (425) 917-6590.

SUPPLEMENTARY INFORMATION: A proposal to amend part 39 of the Federal Aviation Regulations (14 CFR part 39) to include an airworthiness directive (AD) that is applicable to certain Boeing Model 767-200, -300, and -300F series airplanes was published in the Federal Register on December 5, 2003 (68 FR 67973). That action proposed to require performing, for both main landing gear (MLG), gap measurements of the upper and lower joint gaps; an ultrasonic inspection of the outer cylinder of the MLG for cracks between the downlock fitting attach lugs; and follow-on and corrective actions if necessary.

Comments

Interested persons have been afforded an opportunity to participate in the making of this amendment. Due consideration has been given to the comments received.

Request To Add Overhaul/Replacement Option

One commenter requests that an option for overhaul or replacement be added to paragraph (b) of the proposed AD. The commenter notes that paragraph (b) of the proposed AD only states to do a gap measurement and inspection per Part 1 of the service bulletin and does not give operators an option to do the overhaul or replacement per Part 2 of the service bulletin. The commenter contends that overhauled or new outer cylinders would have been adequately inspected prior to installation, and the identified unsafe condition would have been detected and corrected.

The FAA agrees with the commenter that an option to do the inspection should be added allowing operators to replace the outer cylinder of the main landing gear with a new or overhauled outer cylinder. New or overhauled outer cylinders would have been inspected prior to the installation, and the identified unsafe condition would have been detected and corrected. We have revised paragraph (b) of the final rule and added paragraph (b)(2) to the final rule to give operators an option to “Replace the outer cylinder of the main landing gear with a new or overhauled outer cylinder per Part 2 of the service bulletin.”

Request To Refer to Component Maintenance Manual (CMM)

One commenter requests that the reference in paragraph (e) of the proposed AD be changed from the “service bulletin” to “CMM 32-11-40.” The commenter notes that the service bulletin does not contain the repair limits; the service bulletin refers to CMM 32-11-40 for repair limits. The commenter concludes that it may be more correct to refer CMM 32-11-40 for repair limits.

We do not agree with the commenter's request to change the reference in paragraph (e) of the proposed AD to CMM 32-11-40. Paragraph (e) of the proposed AD states, “* * * the repair limits specified in the service bulletin,” and the service bulletin specifies the repair limits in CMM 32-11-40. Therefore, the repair limits are adequately defined by the wording in the AD. No change to the final rule is necessary in this regard.

Request To Revise “Parts Installation” Paragraph (g) of the Proposed AD

One commenter requests that we revise “Parts Installation” paragraph (g) of the proposed AD to allow operators to install outer cylinders that have been inspected internally during overhaul. The commenter contends that overhauled outer cylinders would have been inspected prior to installation, and the identified unsafe condition would have been detected and corrected. The commenter recommends revising paragraph (g) of the proposed AD to “As of the effective date of this AD, no person may install a MLG on any airplane, unless the outer cylinder of the MLG has been inspected internally during overhaul, or externally per Boeing Service Bulletin 767-32A0196, Revision 2, and follow-on and corrective actions have been accomplished per Boeing Service Bulletin 767-32A0196, Revision 2, dated May 15, 2003.”

We agree with the commenter that “Parts Installation” paragraph (g) of the proposed AD should be revised. However, we do not agree with the commenter's suggestion to add the phrase “* * * internally during overhaul, or externally per Boeing Service Bulletin 767-32A0196, Revision 2,” to paragraph (g) of the proposed AD. Operators may not receive inspection paperwork for overhauled outer cylinders so it may be difficult for operators to show compliance for outer cylinders “inspected internally during overhaul.” We do agree with the commenter that overhauled outer cylinders would not have the identified unsafe condition. In addition, new outer cylinders would also not have the identified unsafe condition. Accordingly, we have revised “Parts Installation” paragraph (g) of the final rule by adding “or unless the outer cylinder is new; or unless the outer cylinder has not been installed on any airplane since its last overhaul.”

Request To Clarify Details for Gap Measurements

One commenter requests that the details for gap measurements be clarified by revising paragraph (b) of the proposed AD to “* * * do a gap measurement on the upper and lower attach bolts for both drag and side strut downlock fittings in accordance with Figure 1 of Boeing Service Bulletin 767-32A0196 * * *.” The commenter notes that the service bulletin specifies that two sets of gap measurements be taken for the side and drag strut downlock fittings.

We do not agree with the commenter's request to clarify the details for gap measurements. The wording in the proposed AD is taken from the steps in Figure 1 of the service bulletin and the actions are to be done “per Part 1 of the service bulletin.” Part 1 of the service bulletin contains drawings and notes that show the details for the gap measurements. Therefore, there is not a need for a greater level of detail in the final rule.

Request To Add Text Showing That Gap Measurements Provide Data Supporting the Inspection and That the Manufacturer Can Be Contacted

One commenter requests text be added to the proposed AD that shows gap measurements can be used to provide data to support the inspection and that the manufacturer may be contacted to interpret the gap measurement results.

We do not agree with the commenter's request to add text to show gap measurements can be used to provide data to support the inspection and that the manufacturer may be contacted. Contacting the manufacturer for assistance with the inspection is not a mandatory action and, therefore, is not included in the proposed AD. The service bulletin does state that if operators contact the manufacturer, the manufacturer needs the gap measurement data. There is no need to restate this fact in the proposed AD. Operators should have gap measurement data available if needed, as paragraph (b) of the proposed AD requires operators to take gap measurements. No change is necessary to the final rule.

Conclusion

After careful review of the available data, including the comments noted above, the FAA has determined that air safety and the public interest require the adoption of the rule with the changes previously described. The FAA has determined that these changes will neither increase the economic burden on any operator nor increase the scope of the AD.

Cost Impact

There are approximately 833 airplanes of the affected design in the worldwide fleet. The FAA estimates that 353 airplanes of U.S. registry will be affected by this AD, that it would take approximately 16 work hours per airplane to accomplish the required gap measurement and inspection, and that the average labor rate is $65 per work hour. Based on these figures, the cost impact of the AD on U.S. operators is estimated to be $367,120, or $1,040 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions. Manufacturer warranty remedies may be available for labor costs associated with this AD. As a result, the costs attributable to the AD may be less than stated above.

Regulatory Impact

The regulations adopted herein will not have a substantial direct effect on the States, on the relationship between the national government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-09-11 Boeing: Amendment 39-13600. Docket 2002-NM-198-AD.

Applicability: Model 767-200, -300, and -300F series airplanes, line numbers 1 through 883 inclusive; certificated in any category.

Compliance: Required as indicated, unless accomplished previously.

To detect and correct cracks in the outer cylinder of the main landing gear (MLG), which could result in collapsed MLG and consequent reduced controllability of the airplane during takeoff and landing, accomplish the following:

Service Bulletin References

(a) The term “service bulletin,” as used in this AD, means the Accomplishment Instructions of Boeing Service Bulletin 767-32A0196, Revision 2, dated May 15, 2003.

Inspection or Replacement and Corrective Actions

(b) Within 18 months after the effective date of this AD, for both MLG, do the actions in either paragraph (b)(1) or (b)(2) of this AD.

(1) Perform a gap measurement of the upper and lower joint gaps (includes measuring and recording upper and lower joint gaps twice); and an ultrasonic inspection of the outer cylinder of the main landing gear for cracks between the downlock fitting attach lugs, per Part 1 of the service bulletin.

(2) Replace the outer cylinder of the main landing gear with a new or overhauled outer cylinder per Part 2 of the service bulletin.

(c) If no crack is found during the inspection required by paragraph (b)(1) of this AD, before further flight, do the restoration (includes installing shims as applicable, electrical bracket, and cotter pins; and marking the main landing gear) per the service bulletin.

(d) If any crack is found during the inspection required by paragraph (b)(1) of this AD: Before further flight, overhaul the outer cylinder of the MLG or replace the outer cylinder of the MLG with an interchangeable outer cylinder per Part 2 of the service bulletin, except as provided by paragraph (e) of this AD.

(e) If any crack is found in the outer cylinder that cannot be removed within the repair limits specified in the service bulletin, during the overhaul specified in paragraph (d) of this AD, and the service bulletin specifies to contact Boeing for appropriate action: Before further flight, repair per a method approved by the Manager, Seattle Aircraft Certification Office (ACO), FAA; or per data meeting the type certification basis of the airplane approved by a Boeing Company Designated Engineering Representative who has been authorized by the Manager, Seattle ACO, to make such findings. For a repair method to be approved, the approval must specifically reference this AD.

Note 1: When the outer cylinder is re-installed, attach the downlock fittings onto the outer cylinder as specified in the applicable Boeing Component Maintenance Manual (CMM), Document Number 161T1000, Section 32-11-19, Temporary Revision (TR) 32-61, dated March 26, 2002, or Section 32-11-19, pages 712 through 716, dated July 1, 2002, or dated July 1, 2003; or CMM Document Number 161T1000, Section 32-11-20, TR 32-62, dated March 26, 2002, or Section 32-11-20, pages 718 through 722, dated July 1, 2002, or dated July 1, 2003.

Actions Accomplished Per Previous Issue of Service Bulletin

(f) Accomplishment of the applicable actions before the effective date of this AD per Boeing Alert Service Bulletin 767-32A0196, dated August 1, 2002; or Boeing Service Bulletin 767-32A0196, Revision 1, dated September 26, 2002; are considered acceptable for compliance with the corresponding action specified in this AD.

Parts Installation

(g) As of the effective date of this AD, no person may install a MLG on any airplane, unless the outer cylinder of the MLG has been inspected and follow-on and corrective actions have been accomplished per Boeing Service Bulletin 767-32A0196, Revision 2, dated May 15, 2003; or unless the outer cylinder is new; or unless the outer cylinder has not been installed on any airplane since its last overhaul.

Alternative Methods of Compliance

(h) In accordance with 14 CFR 39.19, the Manager, Seattle ACO, FAA, is authorized to approve alternative methods of compliance for this AD.

Incorporation by Reference

(i) Unless otherwise specified in this AD, the actions shall be done in accordance with Boeing Service Bulletin 767-32A0196, Revision 2, dated May 15, 2003. This incorporation by reference was approved by the Director of the Federal Register in accordance with 5 U.S.C. 552(a) and 1 CFR part 51. Copies may be obtained from Boeing Commercial Airplanes, PO Box 3707, Seattle, Washington 98124-2207. Copies may be inspected at the FAA, Transport Airplane Directorate, 1601 Lind Avenue, SW., Renton, Washington; or at the Office of the Federal Register, 800 North Capitol Street, NW., suite 700, Washington, DC.

Effective Date

(j) This amendment becomes effective on June 4, 2004.

Issued in Renton, Washington, on April 20, 2004.
Ali Bahrami,
Acting Manager, Transport Airplane Directorate, Aircraft Certification Service.

[FR Doc. 04-9590 Filed 4-29-04; 8:45 am]

BILLING CODE 4910-13-P